DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

Proposed Project: Ryan White Comprehensive AIDS Resources Emergency (CARE) Act and Minority AIDS Initiative (MAI) Consultation Form—New

The purpose of the Ryan White CARE Act is to provide emergency assistance to localities that are disproportionately affected by the human immunodeficiency virus (HIV) epidemic and to make financial assistance available for the development, organization, coordination, and operation of more effective and cost-efficient systems for the delivery of essential services to persons with HIV disease. The CARE Act also provides grants to States, eligible metropolitan areas, community-based programs, and early intervention programs for the delivery of services to individuals and families with HIV infection.

The HRSA's HIV/AIDS Bureau (HAB) administers Titles I, II, III, and IV of the Ryan White CARE Act of 1990, as amended by the Ryan White CARE Act Amendments of 1996 and 2000 (codified under Title XXVI of the Public Health Service Act).

In 1998, President Clinton declared that HIV was a severe and ongoing health crisis among racial/ethnic minority communities. In response to the President's declaration, in fiscal year 1999 the Congressional Black Caucus (CBC) announced funding of a new initiative to address the disproportionate impact of HIV on African-American and Hispanic communities. Since 1999, the initial CBC initiative has been broadened to address the HIV epidemic in other racial and ethnic minority communities. Currently, the HRSA, the Centers for Disease Control and Prevention, the National Institutes of Health, the Office of Public Health and Sciences' Office of Minority Health, the Indian Health Service, and the Substance Abuse and Mental Health Services Administration allocate MAI funds. Direct service providers receiving MAI funds through HAB include organizations whose board of directors and/or direct service employees are racial/ethnic minorities, as well as organizations whose mission is focused on providing care to racial/ethnic minority populations.

The Fax Consultation Form for Minority Providers and Providers Receiving MAI Funds is designed to collect information from (1) service providers receiving MAI funds and (2) service providers funded by the Ryan White CARE Act whose board members or direct service staff are predominantly racial/ethnic minority members. The Fax Consultation Form will address several over-arching questions including: (1) Have the MAI funds increased the number of persons served and the type and availability of services provided in communities of color; (2) have the MAI funds increased the capacity of minority and other CARE Act service providers to provide care and services in communities of color; (3) what has been the impact of MAI funded training, technical assistance (TA), and capacity building of minority and other organizations; and (4) what administrative impact have MAI funds had on CARE Act programs? Information obtained from the Fax Consultation Form for Minority Providers and Providers Receiving MAI Funds will be used to address the over-arching questions, plan new technical assistance and capacity development activities, and inform HAB policies and program management.

The Fax Consultation Form for Minority Providers and Providers Receiving MAI Funds will be transmitted by facsimile to service providers who meet the criteria for completing the form. Responding service providers will return their completed forms by the United States Postal Service, an Internet web-based response form, or by facsimile. The form will be designed to include check box responses and open-ended questions. The form will not require additional data to be collected or analyzed by the responding provider. The form will take no longer than 20 minutes to complete. The form will include questions regarding facilitators and barriers to CARE Act and MAI funding, training and technical assistance needs, ways in which the number of minority service providers engaged in HIV care might be increased, new and expanded activities funded by MAI, extent to which MAI funds have met the needs of racial/ethnic communities, the impact of MAI funds on the administration activities, and methods used to track MAI funds.

The estimated response burden for service providers is as follows:

Estimated number of provider respondents | Estimated responses per provider | Estimated minutes per response | Estimated total minutes burden | Estimated total hour burden
1,500 | 1 | 20 | 30,000 | 500

Written comments and recommendations concerning the proposed information collection should be sent within 30 days of this notice to: Allison Eydt, Human Resources and Housing Branch, Office of Management and Budget, New Executive Office Building, Room 10235, Washington, DC 20503, Fax Number, 202-395-6974.

Dated: August 19, 2003.
Jane M. Harrison,
Director, Division of Policy Review and Coordination.

[FR Doc. 03-21755 Filed 8-25-03; 8:45 am]

BILLING CODE 4165-15-P